DEPARTMENT OF AGRICULTURE

National Institute of Food and Agriculture

Notice of Intent To Request Approval To Establish a New Information Collection

AGENCY: National Institute of Food and Agriculture, USDA.

ACTION: Notice and request for comments.

SUMMARY: In accordance with the Paperwork Reduction Act of 1995 and Office of Management and Budget (OMB) regulations, that implement the Paperwork Reduction Act of 1995, this notice announces the National Institute of Food and Agriculture's (NIFA) intention to request approval to establish a new information collection for the REEport system.

DATES: Written comments on this notice must be received by August 12, 2013, to be assured of consideration. Comments received after that date will be considered to the extent practicable.

ADDRESSES: Written comments may be submitted by any of the following methods: Email: rmartin@nifa.usda.gov; Fax: 202-720-0857; Mail: Office of Information Technology (OIT), NIFA, USDA, STOP 2216, 1400 Independence Avenue SW, Washington, DC 20250-2216.

FOR FURTHER INFORMATION CONTACT: Robert Martin, Records Officer; Email: rmartin@nifa.usda.gov.

SUPPLEMENTARY INFORMATION: Title: REEport System.

OMB Number: 0524—New.

Type of Request: Intent to request approval to establish a new information collection for three years.

Abstract: The United States Department of Agriculture (USDA), NIFA administers several competitive, peer-reviewed research, education, and extension programs, under which awards of a high-priority are made. These programs are authorized pursuant to the authorities contained in the National Agricultural Research, Extension, and Teaching Policy Act of 1977, as amended (7 U.S.C. 3101 et seq.); the Smith-Lever Act (7 U.S.C. 341 et seq.); and other legislative authorities. NIFA also administers several formula funded research programs. The programs are authorized pursuant to the authorities contained in the McIntire-Stennis Cooperative Forestry Research Act of October 10, 1962 (16 U.S.C. 582a-1-582a-7); the Hatch Act of 1887, as amended (7 U.S.C. 4361a-361i); Section 1445 of Public Law 95-113, the Food and Agriculture Act of 1977, as amended (7 U.S.C. 3222); and Section 1433 of Subtitle E (Sections 1429-1439), Title XIV of Public Law 95-113, as amended (7 U.S.C. 3191-3201). Each formula funded program is subject to a set of administrative requirements: “Administrative Manual for the McIntire-Stennis Cooperative Forestry Research Program,” the “Administrative Manual for the Hatch Research Program,” the “Administrative Manual for the Evans-Allen Cooperative Agricultural Research Program,” and the “Administrative Manual for the Continuing Animal Health and Disease Research Program”.

NIFA plans to deploy REEport as NIFA's singular non-formula (including competitive grants) and formula grant project reporting system, building on and replacing the existing Current Research Information System (CRIS) Web forms system (OMB Control Number: 0524-0042). REEport will be NIFA's new documentation and data collection system for project initiation and progress reporting and constitutes a necessary information collection for NIFA-supported projects as set forth in requirements established in 7 CFR Parts 3400 through 3430 pertaining to the aforementioned authorities. The transition from CRIS to REEport and this new information collection in support of it are necessary in order to provide descriptive information regarding individual research, education, extension, and integrated activities and to document expenditures and staff support, as well as monitor the progress and impact of such activities.

Out of an initiative of the Research Business Models (RBM) Subcommittee of the Committee on Science (CoS), a committee of the National Science and Technology Council (NSTC), came the Research Performance Progress Report (RPPR). The RPPR is a new uniform format for reporting performance progress on Federally-funded research projects. Upon implementation, the RPPR will be used by agencies that support research and research-related activities for use in submission of interim progress reports. It is intended to replace other interim performance reporting formats currently in use by agencies. In anticipation of the RPPR's implementation, NIFA based REEport's Progress Report format on the RPPR.

As part of REEport's implementation, NIFA intends to transfer existing data in CRIS to REEport and then terminate the applicable components of CRIS. For the existing projects that reported to CRIS, the awardees will then report to REEport. REEport will better address NIFA accountability and reporting needs by supporting limited use of program-specific data fields and the ability to upload documents such as portable document files (PDF) into reports. REEport will allow Hatch and Evans-Allen projects to be linked to planned programs in the Agricultural, Research, Extension and Education Reform Act of 1998 (AREERA) Plan of Work Information System, which will simplify the preparation of State Annual Reports. Each Hatch and Evans-Allen project in REEport will choose which Planned Program it is a part of in the Plan of Work. Once this link is made, expenditures, Full-Time Equivalents (FTEs), and possibly Knowledge Area Classifications can then be rolled up into the Plan of Work system, thus eliminating points of double reporting and eliminating discrepancies between the two systems.

Additionally, deployment of REEport will facilitate the transition to the Research, Education, and Economics Information System (REEIS) as the primary source of information on the research, education, and extension programs, projects and activities of USDA and its partner institutions currently hosted by the CRIS system, including REEIS' Leadership Management Dashboard.

REEport implementation includes:

• Formula and Non-formula new project initiation; and

• Expenditure, progress, and termination reports for all new and existing projects (data transferred from CRIS)

Further information about REEport deployment can be found on http://www.nifa.usda.gov/business/reeport_imp.html which will include implementation updates and other information as it becomes available. NIFA will send out the updates to the new REEportDeploy Lyris email list, which has been created from the CRIS and Plan of Work contacts lists. Interested parties may subscribe to the list by sending an email message to lyris@lyris.nifa.usda.gov (skip the subject line and type subscribe REEportDeploy in the body of your message; be sure you receive an email confirming your subscription).

The information provided through REEport will help users (grantees, grantee institutions and NIFA) to keep abreast of the latest developments in agricultural, food science, human nutrition and forestry research and education; track resource utilization in specific target areas of work; plan for future activities; plan for resource allocation to research, education, and extension programs; avoid costly duplication of effort; aid in coordination of efforts addressing similar problems in different locations; and aid research, education, and extension workers in establishing valuable contacts within the agricultural community.

Estimate of Burden: NIFA used burden estimates from the current CRIS collection to estimate the burden for REEport, but anticipates the transactions for project initiation may be reduced because grant application information will be used to prepopulate many fields. The total annual burden for the non-RPPR portion of this collection is 36,760 hours and 23,490 hours for the RPPR Progress Report.

Transaction name | Using RPPR format | Estimated number of responses | Estimated burden per response | Total annual burden
Project Initiation | No | 3,700 | 4.6 | 17,020
Progress Report | Yes | 8,700 | 2.7 | 23,490
Final Report | Yes | 2,800 | 2.7 | 7,560
Financial Report | No | 8,700 | 1.4 | 12,180

Comments: Comments are invited on: (a) Whether the proposed collection of information is necessary for the proper performance of the functions of the Agency, including whether the information will have practical utility; (b) the accuracy of the Agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this 31st day of May 2013.
Catherine E. Woteki,
Under Secretary, Research, Education, and Economics.

[FR Doc. 2013-13571 Filed 6-6-13; 8:45 am]

BILLING CODE 3410-22-P